DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 7, 2024. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service (NASS)

Title: Conservation Practice Adoption Motivations Survey—Substantive Change.

OMB Control Number: 0535-0272.

Summary of Collection: General authority for these data collection activities is granted under U.S. Code title 7, section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the Conservation Practice Adoption Motivations Survey (CPAMS) information collection request (OMB No. 0535-0272) to target producers who own or operate grazing land and/or forestry for the 2024 survey. There will be two versions of the 2024 Conservation Practice Adoption Motivations Survey. The 2024 CPAMS will obtain practice, technical assistance, financial assistance, and obtain likert question data about motivations for grazing and forestry operations.

This change will increase the total approved burden, which already targets producers who own or operate cropland and confined livestock operations.

NRCS voluntary conservation programs seek to leverage long-term changes in the use of crop, livestock, and forestry practices that conserve resources and protect the environment. NRCS accomplishes this goal by providing technical and financial assistance to producers/landowners who agree to adopt or install conservation practices. While NRCS programs seek to leverage long-term changes in conservation behavior, farmers and landowners ultimately decide whether to continue or expand adopted practices typically without on-going financial assistance. The CPAMS surveys aid in this goal for NRCS.

Need and Use of the Information: These changes will allow useful and relevant data to be collected from grazing and forestry operations.

Description of Respondents: Farms and Ranches; Forest operations.

Number of Respondents: 78,200.

Frequency of Responses: Reporting: Once per year.

Total Burden Hours: 77,237.

Levi Harrell,
Departmental Information Collection Clearance Officer.

[FR Doc. 2024-02304 Filed 2-5-24; 8:45 am]

BILLING CODE 3410-20-P